DEPARTMENT OF ENERGY

Federal Energy Regulatory Commission

Combined Notice of Filings #2

Take notice that the Commission received the following electric rate filings:

Docket Numbers: ER12-1590-000.

Applicants: Entergy Arkansas, Inc.

Description: Refund Report ER12-1590—AECI and Cargill PTP to be effective 4/20/2012.

Filed Date: 7/17/12.

Accession Number: 20120717-5028.

Comments Due: 5 p.m. ET 8/7/12.

Docket Numbers: ER12-1876-001.

Applicants: Alabama Power Company.

Description: Blountstown NITSA Amendment Filing to be effective 5/1/2012.

Filed Date: 7/17/12.

Accession Number: 20120717-5035.

Comments Due: 5 p.m. ET 7/24/12.

Docket Numbers: ER12-2067-001.

Applicants: MidAmerican Energy Company.

Description: Revised Certificates of Concurrence—ITC Midwest to be effective 7/3/2012.

Filed Date: 7/17/12.

Accession Number: 20120717-5020.

Comments Due: 5 p.m. ET 8/7/12.

Docket Numbers: ER12-2249-000.

Applicants: Pacific Gas and Electric Company.

Description: CCSF IA Procedures Amended in 2012 to be effective 8/17/2012.

Filed Date: 7/17/12.

Accession Number: 20120717-5000.

Comments Due: 5 p.m. ET 8/7/12.

Docket Numbers: ER12-2249-001.

Applicants: Pacific Gas and Electric Company.

Description: Errata to Filing to Amend the CCSF IA Procedures to be effective 9/17/2012.

Filed Date: 7/17/12.

Accession Number: 20120717-5048.

Comments Due: 5 p.m. ET 8/7/12.

Docket Numbers: ER12-2250-000.

Applicants: Public Power & Utility of New Jersey, LLC.

Description: Application for Market-Based Rate Authority to be effective 8/17/2012.

Filed Date: 7/17/12.

Accession Number: 20120717-5003.

Comments Due: 5 p.m. ET 8/7/12.

Docket Numbers: ER12-2251-000.

Applicants: Public Power & Utility of NY, Inc.

Description: Application for Market-Based Rate Authority to be effective 8/17/2012.

Filed Date: 7/17/12.

Accession Number: 20120717-5004.

Comments Due: 5 p.m. ET 8/7/12.

Docket Numbers: ER12-2252-000.

Applicants: Public Power, LLC of Pennsylvania.

Description: Application for Market-Based Rate Authority to be effective 8/17/2012.

Filed Date: 7/17/12.

Accession Number: 20120717-5005.

Comments Due: 5 p.m. ET 8/7/12.

Docket Numbers: ER12-2253-000.

Applicants: Public Power & Utility of Maryland, LLC.

Description: Application for Market-Based Rate Authority to be effective 8/17/2012.

Filed Date: 7/17/12.

Accession Number: 20120717-5006.

Comments Due: 5 p.m. ET 8/7/12.

Docket Numbers: ER12-2254-000.

Applicants: Alabama Power Company.

Description: SWE (Hartford) NITSA Filing to be effective 7/1/2012.

Filed Date: 7/17/12.

Accession Number: 20120717-5040.

Comments Due: 5 p.m. ET 8/7/12.

Docket Numbers: ER12-2255-000.

Applicants: Alabama Power Company.

Description: 2011 Hartford NITSA Termination Filing to be effective 6/30/2012.

Filed Date: 7/17/12.

Accession Number: 20120717-5047.

Comments Due: 5 p.m. ET 8/7/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 17, 2012.
Nathaniel J. Davis, Sr.,
Deputy Secretary.

[FR Doc. 2012-18011 Filed 7-23-12; 8:45 am]

BILLING CODE 6717-01-P